DEPARTMENT OF THE INTERIOR

Bureau of Land Management

[LLNV952000 L14400000.BJ0000.LXSSF2210000.241A; 13-08807; MO# 4500089233; TAS: 16X1109]

Filing of Plats of Survey; NV

AGENCY: Bureau of Land Management, Interior.

ACTION: Notice.

SUMMARY: The purpose of this notice is to inform the public and interested State and local government officials of the filing of Plats of Survey in Nevada.

DATES: Effective Dates: Unless otherwise stated filing is effective at 10:00 a.m. on the dates indicated below.

FOR FURTHER INFORMATION CONTACT: Michael O. Harmening, Chief, Branch of Geographic Sciences, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: 1. The Plat of Survey of the following described lands was officially filed at the Bureau of Land Management (BLM) Nevada State Office, Reno, Nevada on August 26, 2015:

The plat, in 1 sheet, representing the dependent resurvey of a portion of the subdivisional lines and a portion of the subdivision-of-section lines of section 32, and the further subdivision of section 32, Township 22 South, Range 60 East, Mount Diablo Meridian, under Group No. 930, was accepted August 25, 2015. This survey was executed to meet certain administrative needs of the Bureau of Land Management.

2. The Plat of Survey of the following described lands was officially filed at the Bureau of Land Management (BLM) Nevada State Office, Reno, Nevada on October 8, 2015:

The plat, in 6 sheets, representing the dependent resurvey of the Mount Diablo Base Line, through a portion of Range 37 East and through Range 38 East, the south boundary, portions of the east and west boundaries, a portion of the subdivisional lines and Mineral Survey Nos. 1739 and 2688 and the independent resurvey of portions of the east and west boundaries and a portion of the subdivisional lines, Township 1 South, Range 38 East, Mount Diablo Meridian, under Group No. 911, was accepted September 29, 2015. This survey was executed to meet certain administrative needs of the Bureau of Land Management.

3. The Plat of Survey of the following described lands was officially filed at the Bureau of Land Management (BLM) Nevada State Office, Reno, Nevada on October 8, 2015:

The plat, in 1 sheet, representing the dependent resurvey of the Mount Diablo Base Line, through a portion of Range 38 1/2 East, and a portion of the subdivisional lines and the independent resurvey of a portion of the subdivisional lines, Township 1 South, Range 39 East, Mount Diablo Meridian, under Group No. 911, was accepted September 29, 2015. This survey was executed to meet certain administrative needs of the Bureau of Land Management.

4. The Plat of Survey of the following described lands was officially filed at the Bureau of Land Management (BLM) Nevada State Office, Reno, Nevada on October 9, 2015:

The plat, in 7 sheets, representing the dependent resurvey of the Mount Diablo Base Line, through Range 38 1/2 East and a portion of Range 39 East, the south boundary, a portion of the east boundary, a portion of the subdivisional lines and portions of certain mineral surveys and the independent resurvey of a portion of the subdivisional lines, Township 1 South, Range 39 East, Mount Diablo Meridian, under Group No. 926, was accepted September 30, 2015. This survey was executed to meet certain administrative needs of the Bureau of Land Management.

5. The Supplemental Plat of the following described lands was officially filed at the BLM Nevada State Office, Reno, Nevada on December 2, 2015:

The supplemental plat, in 1 sheet, showing the amended lottings in section 17, Township 19 South, Range 60 East, of the Mount Diablo Meridian, Nevada, under Group No. 960, was accepted November 30, 2015. This supplemental plat was prepared to accommodate the transfer of public lands to the State of Nevada, under provisions of Public Law 113-291.

The surveys and supplemental plat listed above are now the basic record for describing the lands for all authorized purposes. These records have been placed in the open files in the BLM Nevada State Office and are available to the public as a matter of information. Copies of the surveys and related field notes may be furnished to the public upon payment of the appropriate fees.

Dated: January 4, 2016.
Michael O. Harmening,
Chief Cadastral Surveyor, Nevada.

[FR Doc. 2016-00318 Filed 1-8-16; 8:45 am]

BILLING CODE 4310-HC-P